DEPARTMENT OF COMMERCE

National Oceanic and Atmospheric Administration

RIN 0648-XB071

North Pacific Fishery Management Council; Public Meetings

AGENCY: National Marine Fisheries Service (NMFS), National Oceanic and Atmospheric Administration (NOAA), Commerce.

ACTION: Notice of meetings of the North Pacific Fishery Management Council and its advisory committees.

SUMMARY: The North Pacific Fishery Management Council (Council) and its advisory committees will hold public meetings, March 26 through April 3, 2012.

DATES: The meetings will be held March 26 through April 3, 2012. See SUPPLEMENTARY INFORMATION for specific dates and times.

ADDRESSES: The meetings will be held at the Anchorage Hilton Hotel, 500 West 3rd Avenue, Anchorage, AK.

Council address: North Pacific Fishery Management Council, 605 W. 4th Avenue, Suite 306, Anchorage, AK 99501-2252.

FOR FURTHER INFORMATION CONTACT: David Witherell, Council staff; telephone: (907) 271-2809.

SUPPLEMENTARY INFORMATION: The Council will begin its plenary session at 8 a.m. on Wednesday, March 28 continuing through Tuesday, April 1. Council's Advisory Panel (AP) will begin at 8 a.m., Monday, March 26 and continue through Friday, March 30. The Scientific Statistical Committee (SSC) will begin at 8 a.m. on Monday, March 26 and continue through Wednesday, March 28. The Halibut Implementation Committee will meet March 26 at 4 p.m. The Ecosystem Committee will meet March 27, 9 a.m.-12 p.m. The Enforcement Committee will meet March 27 at 1 p.m.-4 p.m. All meetings are open to the public, except executive sessions.

Council Plenary Session: The agenda for the Council's plenary session will include the following issues. The Council may take appropriate action on any of the issues identified.

Reports:

1. Executive Director's Report

NMFS Management Report (incl. report on observer program implementation)

Alaska Department of Fish & Game Report

NOAA Enforcement Report

United States Coast Guard Report

United States Fish & Wildlife Service Report

Protected Species Report (including review of Steller Sea Lion (SSL) Notice of Intent for Environmental Impact Statement)

2. Cooperative Reports: Receive Amendment 80 Cooperative Reports; Receive Central Gulf of Alaska (CGOA) Rockfish Cooperative Reports; Receive American Fisheries Act (AFA) Pollock Cooperative and Incentive Program Agreements (IPA) Reports.

3. Bering Sea Aleutian Island (BSAI) Chum Salmon Bycatch: Update on salmon genetics (T); Initial review of chum salmon bycatch measures.

4. Habitat Conservation Issues: Initial Review of Habitat Area of Particular Concern (HAPC) skate sites; Final action on Gulf of Alaska (GOA) Flatfish Trawl Sweep Modification; Review Bering Sea (BS) Habitat Conservation Area boundary; Essential Fish Habitat (EFH) consultation criteria: Ecosystem Committee Report.

5. Halibut Issues: Final action to allow Area 4B fish-up; Review Catch Share Plan(CSP) and action as necessary;.

6. Scallop Stock Assessment Fishery Evaluation report (SAFE): Approve 2012/13 Acceptable Biological Catch (ABC) and Overfishing Level (OFL) harvest specifications.

7. GOA Pacific Cod: Updated discussion paper on Pacific Cod jig management (reverse parallel); Discussion paper on limiting other gear on jig vessels; Discussion paper on GOA Pacific cod A-season opening dates.

8. Miscellaneous Issues: Bering Sea Integrated Ecosystem Research Program (BSIERP) Management Strategy Evaluation report; Discussion paper on Vessel Monitoring System (VMS) use and requirements; Programmatic Groundfish Supplemental Environmental Impact Statement (SEIS); Public workshop and SSC evaluation only; Report from the BSAI Crab Right of First Refusal (ROFR) Workgroup; Tanner crab model review (SSC only); Review GOA pollock Exempted Fishery Permit (EFP) (T).

9. Staff Tasking: Review Committees and tasking.

10. Other Business

The SSC agenda will include the following issues:

1. BSAI Salmon Chum Bycatch

2. Scallop SAFE

3. Initial Review of Skates

4. Review Bering Sea Habitat Conservation Area Boundary

5. BSIERP Management Strategy Evaluation report

6. Groundfish Programmatic SEIS (public workshop and SSC evaluation)

7. Tanner crab model review

8. Review GOA Pollock EFP

The Advisory Panel will address most of the same agenda issues as the Council except B reports. The Agenda is subject to change, and the latest version will be posted at http://www.alaskafisheries.noaa.gov/npfmc/

Although non-emergency issues not contained in this agenda may come before these groups for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: March 6, 2012.
Tracey L. Thompson,
Acting Director, Office of Sustainable Fisheries, National Marine Fisheries Service.

[FR Doc. 2012-5739 Filed 3-8-12; 8:45 am]

BILLING CODE 3510-22-P